DEPARTMENT OF TRANSPORTATION

Federal Aviation Administration

Executive Committee of the Aviation Rulemaking Advisory Committee; Meeting; Correction

AGENCY: Federal Aviation Administration (FAA), DOT.

ACTION: Notice of meeting; correction.

SUMMARY: On June 3, 2010, the FAA published a notice of a meeting of the Executive Committee of the Aviation Rulemaking Advisory Committee. The notice contained an inaccurate date in one section. This notice corrects that error.

FOR FURTHER INFORMATION CONTACT: Gerri Robinson, Federal Aviation Administration, 800 Independence Avenue, SW., Washington, DC 20591, telephone (202) 267-9678; fax (202) 267-5057; e-mail Gerri.Robinson@faa.gov.

SUPPLEMENTARY INFORMATION: In FR Doc. 2010-13326, published June 3, 2010, (75 FR 31509) make the following correction:

On page 31509, in the second column, under the heading SUPPLEMENTARY INFORMATION, revise the date “December 9, 2009” to read “June 16, 2010.”

Issued in Washington, DC, on June 3, 2010.
Pamela A. Hamilton-Powell,
Executive Director, Aviation Rulemaking Advisory Committee.

[FR Doc. 2010-13762 Filed 6-7-10; 8:45 am]

BILLING CODE 4910-13-P